Title 3—

The President

Memorandum of July 22, 2003

Report to the Congress Consistent With the Afghanistan

Freedom Support Act of 2002

Memorandum for the Secretary of State

Consistent with section 206(c) of the Afghanistan Freedom Support Act of 2002 (Public Law 107-327 of December 4, 2002), you are hereby authorized and directed to transmit the attached report on implementation of the strategies for meeting the immediate and long-term security needs of Afghanistan to the appropriate committees of the Congress.

You are also authorized and directed to publish this memorandum in the Federal Register.

B

THE WHITE HOUSE,

Washington, July 22, 2003.

[FR Doc. 03-23569

Filed 9-11-03; 12:06 pm]

Billing code 4710-10-P